DEPARTMENT OF EDUCATION

National Board for Education Sciences; Meeting

AGENCY: National Board for Education Sciences; ED.

ACTION: Notice of open meeting and a partially closed meeting.

SUMMARY: This notice sets forth the schedule and proposed agenda of a forthcoming meeting of the National Board for Education Sciences. Notice of this meeting is required under Section 10(a)(2) of the Federal Advisory Committee Act. This document is intended to notify the general public of their opportunity to attend the open portion of the meeting. Individuals who will need accommodations for a disability in order to attend the meeting (i.e., interpreting services, assistive listening devices, materials in alternative format) should notify Mary Grace Lucier at 202/219-2253 (or Mary.Grace.Lucier@ed.gov) by January 12. We will attempt to meet requests after this date, but cannot guarantee availability of the requested accommodation. The meeting site is accessible to individuals with disabilities.

Dates: January 23 and 24, 2007.

Time: January 23, 1:30 to 4:30 p.m.

January 24, 9-9:15 a.m., open; 9:15 to 10 a.m., closed; 10 a.m.-2 p.m., open.

Location: Washington Court Hotel, 525 New Jersey Ave., NW., Washington, DC 20001, (room to be announced).

FOR FURTHER INFORMATION CONTACT: Mary Grace Lucier, 202/219-2253.

SUPPLEMENTARY INFORMATION: The National Board for Education Sciences is authorized by Section 116 of the Education Sciences Reform Act of 2002. The Board advises the Director of the Institute of Education Sciences (IES) on the establishment of activities to be supported by the Institute, on the funding of applications for grants, contracts, and cooperative agreements for research after the completion of peer review, and reviews and evaluates the work of the Institute. On January 23 at 1:30 p.m., the Board will receive an update from the Director of IES on the work of the Institute and its short and long-term goals. At 3 p.m., Alex Nock, Director of the Commission on No Child Left Behind, will discuss the role of research and evaluation in the reauthorization of the No Child Left Behind Act and the Education Sciences Reform Act.

On January 24, after a review of the prior day's activities the meeting will be closed to the public from 9:15 a.m.-10 a.m. under exemptions (2) and (6) of the Section 552b(c) of Title 5 U.S.C. The Board will discuss internal personnel issues relating to filling the positions of chairperson and executive director. After a 15-minute break, the Board will resume in open session at 10:15 a.m. At that time, the contractor chosen to conduct an evaluation of IES will give a presentation. This portion of the meeting will last until 11:30 a.m. The Board will hear a presentation by Dr. Mark Schneider, Commissioner of the National Center for Education Statistics from 11:30 a.m. to 12:15 p.m., followed by the Board's annual ethics briefing. From 1 p.m. to 2 p.m. the Board will hear reports from its subcommittees and consider next steps for its work in FY 2007. The meeting will adjourn at 2 p.m. A final agenda will be available from Mary Grace Lucier on January 12, 2007.

A summary of the activities at the closed session and related matters which are informative to the public consistent with the policy of Title 5 U.S.C. 552b(c) will be available to the public. Records will be kept of all Board proceedings and will be available for public inspection at the office of the National Board for Education Sciences, Room 627H, 555 New Jersey Ave., NW., Washington, DC 20208.

Dated: January 3, 2007.
Grover J. Whitehurst,
Director, Institute of Education Sciences.

[FR Doc. 07-16 Filed 1-8-07; 8:45 am]

BILLING CODE 4000-01-M